DEPARTMENT OF HEALTH AND HUMAN SERVICES

Centers for Disease Control and Prevention

[30Day-36-04]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 498-1210. Send written comments to CDC, Desk Officer, Human Resources and Housing Branch, New Executive Office Building, Room 10235, Washington, DC 20503 or by fax to (202) 395-6974. Written comments should be received within 30 days of this notice.

Proposed Project: Thyroid Disease in Persons Exposed to Radioactive Fallout from Atomic Weapons Testing at the Nevada Test Site: Phase III (OMB No. 0920-0504)—Extension—National Center for Environmental Health (NCEH), Centers for Disease Control and Prevention (CDC).

In 1997, the National Cancer Institute (NCI) released a report entitled, “Estimated Exposures and Thyroid Doses Received by the American People from I-131 in Fallout Following Nevada Nuclear Bomb Test.” This report provided county-level estimates of the potential radiation doses to the thyroid gland of American citizens resulting from atmospheric nuclear weapons testing at the Nevada Test Site (NTS) in the 1950s and 1960s. The Institute of Medicine (IOM) conducted a formal peer review of the report at the request of the Department of Health and Human Services. In the review, IOM noted that the public might desire an assessment of the potential health impact of nuclear weapons testing on American populations. The IOM also suggested that further studies of the Utah residents who have participated in previous studies of radiation exposure and thyroid disease might provide this information.

CDC, National Center for Environmental Health proposes to conduct a study of the relation between exposure to radioactive fallout from atomic weapons testing and the occurrence of thyroid disease on an extension of a cohort study previously conducted by the University of Utah, Salt Lake City, Utah. This study is designed as a follow-up to a retrospective cohort study begun in 1965. This is the third examination (hence Phase III) of a cohort of individuals comprised of persons who were children living in Washington County, Utah, and Lincoln County, Nevada, in 1965 (Phase I) and who were presumably exposed to fallout from above-ground nuclear weapons testing at the Nevada Test Site in the 1950s. The cohort also includes a control group comprised of persons who were children living in Graham County, Arizona, in 1966 and presumably unexposed to fallout.

The study headquarters will be at the University of Utah in Salt Lake City, Utah. The field teams will spend the majority of their time in the urban areas nearest the original counties if the same pattern of migration holds same as that was found in Phase II. These urban areas include: St. George, Utah; the Wasatch Front in Utah; Las Vegas, Nevada; Phoenix/Tucson, Arizona; and Denver, Colorado. In addition, some time will be spent in California as a number of subjects were relocated there during the time of Phase II. The purpose of Phase III is three-fold. First, the participants in Phase II will be re-examined for occurrence of thyroid neoplasia and other diseases since 1986, and residents of the three counties who moved before they could be included in the original cohort will be located and examined. Second, disease incidence will be analyzed in addition to period prevalence as used in the Phase II analysis, and incidence analysis will allow for greater power to detect increased risk of disease in the exposed population through the use of person-time. Third, disease specific mortality rates for Washington County, Utah, and a control county, Cache County, Utah, will be compared to people who lived in these two counties during the time of above-ground testing. This comparison will determine if the risk of mortality in Washington County (the exposed group) is significantly greater than Cache County (the control group). CDC, NCEH is requesting a three-year clearance. The estimated annualized burden is 3,368 hours.

Respondents | Number of respondents | Number of responses per respondent | Average burden per response (in hours)
Telephone Location Script | 1,200 | 1 | 5/60
Telephone Location Script (return letter) | 67 | 1 | 5/60
Refusal Telephone Script | 50 | 1 | 5/60
Recruitment Next of Kin Telephone Script | 75 | 1 | 5/60
Recruitment & Appointment Script | 960 | 1 | 5/60
Broken Appointment Telephone Script | 40 | 1 | 5/60
Exposure Questionnaire | 167 | 1 | 90/60
Questionnaire Preparation Booklet | 960 | 1 | 30/60
Group Member Information | 960 | 1 | 5/60
Consent Forms | 960 | 1 | 5/60
Interview Booklet | 167 | 1 | 30/60
Medical History Questionnaire (male) | 520 | 1 | 2
Medical History Questionnaire (female) | 520 | 1 | 2
Medical Records Release Telephone Script | 40 | 1 | 5/60
Thyroid Exam | 520 | 1 | 1
Travel Form | 80 | 1 | 20/60
Residence History | 167 | 1 | 5/60
Refusal Questionnaire | 8 | 1 | 5/60

Dated: April 16, 2004.
Bill J. Atkinson,
Acting Director, Management Analysis and Services Office, Centers for Disease Control and Prevention.

[FR Doc. 04-9237 Filed 4-22-04; 8:45 am]

BILLING CODE 4163-18-P